DEPARTMENT OF TRANSPORTATION

Federal Aviation Administration

Ninth Meeting, RTCA Special Committee 216: Aeronautical System Security

AGENCY: Federal Aviation Administration (FAA), DOT.

ACTION: Notice of RTCA Special Committee 216 meeting Aeronautical Systems Security.

SUMMARY: The FAA is issuing this notice to advise the public of a meeting of RTCA Special Committee 216: Aeronautical Systems Security.

DATES: The meeting will be held on May 19-21, 2009. May 19, from 12 p.m. to 5 p.m., and May 20-21, from 9 a.m. to 5 p.m.

ADDRESSES: RTCA, Inc., 1828 L Street, NW., Suite 805, Washington, DC 20036.

FOR FURTHER INFORMATION CONTACT: RTCA Secretariat, 1828 L Street, NW., Suite 805, Washington, DC 20036-5133; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 216 meeting. The agenda will include:

• Opening Session (Welcome, Introductions and Administrative Remarks, Agenda Overview).

• Approval of Summary of the Eighth meeting held on March 18-20, 2009, RTCA Paper No. 038-09/SC216-015.

• Subgroup and Action Item Reports.

• EUROCAE WG-72 Report.

• Other Industry Activities Related to Security—Reports and presentations.

• Subgroup Breakout Sessions.

• Subgroups Report on Breakouts.

• Closing Session (Any Other Business, Establish Agenda, Date and Place of Next Meeting, Closing Remarks, Adjourn).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on April 20, 2009.
Francisco Estrada C.,
RTCA Advisory Committee.

[FR Doc. E9-9525 Filed 4-24-09; 8:45 am]

BILLING CODE 4910-13-P